COMMISSION ON CIVIL RIGHTS

Notice of Public Meeting of the Minnesota Advisory Committee; Cancellation

AGENCY: Commission on Civil Rights.

ACTION: Notice; cancellation of virtual business meeting.

SUMMARY: The Commission on Civil Rights published a notice in the Federal Register concerning a virtual business meeting of the Minnesota Advisory Committee. The meeting scheduled for Thursday, July 27, 2023, at 12:30 p.m. (CT) is cancelled. The notice is in the Federal Register of Wednesday, June 21, 2023, in FR Doc. 2023-13124 in the third column of page 40199 and first column of page 40200.

FOR FURTHER INFORMATION CONTACT: Liliana Schiller, Support Services Specialist, at lschiller@usccr.gov or (202) 770-1856.

Dated: July 13, 2023.
David Mussatt,
Supervisory Chief, Regional Programs Unit.

[FR Doc. 2023-15191 Filed 7-17-23; 8:45 am]

BILLING CODE P